DEPARTMENT OF JUSTICE

28 CFR Part 31

[Docket No. OJP (OJJDP) 1737]

RIN 1121-AA83

Juvenile Justice and Delinquency Prevention Act Formula Grant Program

AGENCY: Office of Justice Programs.

ACTION: Final rule; correcting amendments.

SUMMARY: The Office of Juvenile Justice and Delinquency Prevention (“OJJDP”) of the Office of Justice Programs (“OJP”) published in the Federal Register on January 17, 2017, a partial Final Rule amending the formula grant program (“Formula Grant Program”) regulation. This technical correction corrects inaccurate citations to sections of the Juvenile Justice and Delinquency Prevention Act (the “Act”) in the partial Final Rule.

DATES: Effective Date: This rule is effective June 30, 2017.

FOR FURTHER INFORMATION CONTACT: Gregory Thompson, Senior Advisor, Office of Juvenile Justice and Delinquency Prevention, at 202-307-5911.

SUPPLEMENTARY INFORMATION:

Background

The OJJDP Formula Grant Program is authorized by the Juvenile Justice and Delinquency Prevention Act (“JJDPA”), which authorizes OJJDP to provide an annual grant to each State to improve its juvenile justice system and to support juvenile delinquency prevention programs. The partial Final Rule that OJJDP published on January 17, and which took effect on March 21, 2017, amends the implementing regulations for the Formula Grant Program found at 28 CFR part 31. In particular, § 31.303(f)(5) amends States' reporting requirements in several aspects. This technical correction simply corrects inaccurate references to sections of the Act cited in the partial Final Rule.

How This Document Complies With the Federal Administrative Requirements for Rulemaking

A. Executive Order 12866 and Executive Order 13563

This technical correction has been drafted and reviewed in accordance with Executive Order 12866, “Regulatory Planning and Review,” section 1(b), The Principles of Regulation, and Executive Order 13563, “Improving Regulation and Regulatory Review,” section 1, General Principles of Regulation. This technical correction is limited to amending the citations to sections of the Act and, therefore, is not a “regulation” or “rule” as defined by that Executive Order.

B. Executive Order 13132

This technical correction to the partial Final Rule will not have substantial direct effects on the States, on the relationship between the Federal Government and the States, or on the distribution of power and responsibilities among the various levels of government. Therefore, in accordance with section 6 of Executive Order 13132, “Federalism,” OJP has determined that this technical correction does not have sufficient federalism implications to warrant the preparation of a federalism summary impact statement.

C. Executive Order 12988

This technical correction to the partial Final Rule meets the applicable standards set forth in sections 3(a) and 3(b)(2) of Executive Order 12988, “Civil Justice Reform.”

D. Administrative Procedures Act

This technical correction simply corrects citations to sections of the Act in the partial Final Rule published on January 17, 2017 and, accordingly, OJP finds it unnecessary to publish this technical correction for public notice and comment. See 5 U.S.C. 553(b). Similarly, because delaying the effective date of this technical correction would serve no purpose, OJP also finds good cause to make this rule technical correction effective upon publication. See 5 U.S.C. 553(d)(3).

E. Regulatory Flexibility Act

OJP, in accordance with the Regulatory Flexibility Act, 5 U.S.C. 605(b), has reviewed this technical correction and, by approving it, certifies that it will not have a significant economic impact on a substantial number of small entities because it simply makes a technical correction to the partial Final Rule published on January 17, 2017. Further, a Regulatory Flexibility analysis is not required for this technical correction because OJP was not required to publish a general notice of proposed rulemaking for this matter. See 5 U.S.C. 604.

F. Small Business Regulatory Enforcement Fairness Act of 1996

This technical correction is not a major rule as defined by section 251 of the Small Business Regulatory Enforcement Fairness Act of 1996, 5 U.S.C. 804. This technical correction will not result in an annual effect on the economy of $100 million or more; a major increase in costs or prices; or significant adverse effects on competition, employment, investment, productivity, innovation, or on the ability of United States-based enterprises to compete with foreign-based enterprises in domestic and export markets.

G. Unfunded Mandates Reform Act of 1995

This technical correction was not preceded by a published notice of proposed rulemaking; will not result in the expenditure by State, local, and tribal governments, in the aggregate, or by the private sector, of $100 million or more in any one year; will not significantly or uniquely affect small governments; and does not contain significant intergovernmental mandates. Therefore, no actions were deemed necessary under the provisions of the Unfunded Mandates Reform Act of 1995, 2 U.S.C. 1531-1535.

H. Paperwork Reduction Act of 1995

This technical correction does not impose any new reporting or recordkeeping requirements under the Paperwork Reduction Act, 44 U.S.C. 3501-3521.

List of Subjects in 28 CFR Part 31

Authority and Issuance.

PART 31—OJJDP GRANT PROGRAMS

1. The authority citation for 28 CFR part 31 continues to read as follows:

Authority: 42 U.S.C. 5611(b); 42 U.S.C. 5631-5633.

Subpart A—Formula Grants

§ 31.303 [Amended]

2. In § 31.303(f)(5), remove the words “42 U.S.C. 5633(a)(12), (13), and (14)” and add in their place “42 U.S.C. 5633(a)(11), (12), and (13)”.

Dated: June 12, 2017.
Alan R. Hanson,
Acting Assistant Attorney General, Office of Justice Programs.

[FR Doc. 2017-12984 Filed 6-29-17; 8:45 am]

BILLING CODE 4410-18-P